DEPARTMENT OF HEALTH AND HUMAN SERVICES

Centers for Disease Control and Prevention

[Program Announcement 01146]

Expansion of HIV/AIDS Prevention Activities in the Republic of Kenya; Notice of Availability of Funds

A. Purpose

The Centers for Disease Control and Prevention (CDC) announces the availability of fiscal year (FY) 2001 funds for a cooperative agreement program for Global AIDS Program.

The purpose of the program is to provide assistance in developing a disease Surveillance program for the control of HIV/AIDS in the country of Kenya, and to support activities to reduce the burden of tuberculosis.

B. Eligible Applicants

Single Source

Assistance will be provided only to the Ministry of Health (MOH) of the Country of Kenya. No other applications are solicited.

This announcement is restricted to the MOH or subservient agencies of the government of Kenya as they are the only legislated entity with the authority and responsibility to collect such data for the purpose of the control of HIV/AIDS, communicable disease and the maintenance of public health.

A. Availability of Funds

Funds are available under this announcement to fund two specific activities with funding amounts identified for each activity. These activities are:

1. HIV/AIDS Surveillance Activities including:

(a) Monitoring of Blood Safety

(b) Overall monitoring of HIV VCT and Mother to Child Transmission within Kenya—$500,000

2. Tuberculosis Surveillance and Control as it relates to HIV/AIDS—$1 million

Each component or program activity for which funds are requested should be specifically identified with Goals, Plan, Objectives, Activities, Method of Evaluation and budget provided. A summary budget by line item should be provided.

It is expected that the awards will begin on or about September 30, 2001 and will be made for a 12-month budget period within a project period of up to five (5) years. Funding estimates may change.

Continuation awards within an approved project period will be made on the basis of satisfactory progress as evidenced by required reports and the availability of funds.

Use of Funds

Antiretroviral Drugs

Funds received from this announcement will not be used for the purchase of antiretroviral drugs for treatment of established HIV infection (with the exception nevirapine in PMTCT cases and with prior written approval), occupational exposures, and non-occupational exposures and will not be used for the purchase of machines and reagents to conduct the necessary laboratory monitoring for patient care.

Applicants may contract with other organizations under these cooperative agreements, however, applicants must perform a substantial portion of the activities including program management and operations and delivery of prevention services for which funds are requested.

The costs that are generally allowable in grants to domestic organizations are likewise allowable to foreign institutions and international organizations, with the following exceptions:

Indirect Costs: With the exception of the American University, Beirut, the Gorgas Memorial Institute, and the World Health Organization, indirect costs will not be paid (either directly or through a sub-award) to organizations located outside the territorial limits of the United States or to international organizations regardless of their location.

All requests for funds, including the budget contained in the application, shall be stated in U.S. dollars. Once an award is made, the Department of Health and Human Services (DHHS) will not compensate foreign grantees for currency exchange fluctuations through the issuance of supplemental awards.

Needle Exchange

No funds appropriated under this Act shall be used to carry out any program of distributing sterile needles or syringes for the hypodermic injection of any illegal drug.

D. Where to Obtain Additional Information

This and other CDC announcements can be found on the CDC home page Internet address—http://www.cdc.gov. Click on “Funding” then “Grants and Cooperative Agreements.”

To obtain business management technical assistance, contact: Dorimar Rosado, Grants Management Specialist, Grants Management Branch, Procurement and Grants Office, Centers for Disease Control and Prevention, 2920 Brandywine Road, Room 3000, Atlanta, GA 30341-4146, Telephone number (770) 488-2782, E-mail address: dpr7@cdc.gov.

For program technical assistance, contact: Lawrence H. Marum, M.D., FAAP, MPH, CDC LIFE Initiative P.O. Box 30137, Nairobi, National AIDS/ASTD Control Programme (NASCOP), P.O. Box 30137, Nairobi, Kenya.

US Mail: Unit 64112, APO, AE 09831-4112, Telephone number: +254-72-721-781 or +254-2-729-549, Fax: +254-2-714-745, E-mail: Lmarum@nairobi.mimcom.net.

Dated: July 17, 2001.
John L. Williams,
Director, Procurement and Grants Office, Centers for Disease Control and Prevention (CDC).

[FR Doc. 01-18285 Filed 7-20-01; 8:45 am]

BILLING CODE 4163-18-P